DEPARTMENT OF EDUCATION

Withdrawal of Notices Inviting Applications for New Awards for Fiscal Year (FY) 2011; Undergraduate International Studies and Foreign Language (UISFL) Program; International Research and Studies (IRS) Program; et al.

AGENCY: Office of Postsecondary Education, Department of Education.

ACTION: Notice.

Overview Information:

CFDA No. 84.016A, 84.017A, 84.019A, 84.022A, 84.153A, 84.274A, and 84.116B.

Withdrawal of Notices inviting applications for new awards for Fiscal Year (FY) 2011; Undergraduate International Studies and Foreign Language (UISFL) Program; International Research and Studies (IRS) Program; Fulbright-Hays Faculty Research Abroad (FRA) Fellowship Program; Fulbright-Hays Doctoral Dissertation Research Abroad (DDRA) Fellowship Program; Business and International Education (BIE)Program; American Overseas Research Centers (AORC) Program; and The Fund for the Improvement of Postsecondary Education (FIPSE)—Comprehensive Program.

SUMMARY: On September 17, 2010 (75 FR 57000) (DDRA); October 1, 2010 (75 FR 60740) (FRA); January 13, 2011 (76 FR 2349) (BIE) and (76 FR 2353) (IRS); January 25, 2011 (76 FR 4330) (AORC); February 8, 2011 (76 FR 6769) (UISFL); and March 22, 2011 (76 FR 15956) (Comprehensive Program), the Department published in the Federal Register notices inviting applications for new awards for each of the programs identified. Since that time, the Department has determined that, as a result of final Congressional action on FY 2011 appropriations, there are not sufficient funds available in 2011 to support new awards under these programs. As such, the Department withdraws these notices inviting applications for new awards for FY 2011.

Program Authority: 20 U.S.C. 1124, 20 U.S.C 1125, 22 U.S.C 2452(b)(6), 20 U.S.C. 1130-1130b, 20 U.S.C 1128a, and 20 U.S.C. 1138-1138d.

FOR FURTHER INFORMATION CONTACT: For information on UISFL, International and Foreign Language Education (IFLE): Christine Corey, U.S. Department of Education, 1990 K Street, NW., Room 6069, Washington, DC 20006-8521. Telephone: (202) 502-7629 or by e-mail: christine.corey@ed.gov.

For information on IRS, IFLE: Beth MacRae, U.S. Department of Education, 1990 K Street NW., Room 6088, Washington, DC 20006-8521. Telephone: (202) 502-7596 or by e-mail: beth.macrae@ed.gov.

For information on FRA, IFLE: Cynthia Dudzinski, U.S. Department of Education, 1990 K Street, NW., Room 6077, Washington, DC 20006-8521. Telephone: (202) 502-7589 or by e-mail: cynthia.dudzinski@ed.gov.

For information on DDRA, IFLE: Amy Wilson, U.S. Department of Education, 1990 K Street, NW., Room 6082, Washington, DC 20006-8521. Telephone: (202) 502-7700 or by e-mail: amy.wilson@ed.gov.

For information on BIE, IFLE: Susanna Easton, U.S. Department of Education, 1990 K Street, NW., Room 6093, Washington, DC 20006-8521. Telephone: (202) 502-7628 or by e-mail: susanna.easton@ed.gov.

For information on AORC, IFLE: Cheryl Gibbs, U.S. Department of Education, 1990 K Street, NW., Room 6083, Washington, DC 20006-8521. Telephone: (202) 502-7634 or by e-mail: cheryl.gibbs@ed.gov.

For information on Comprehensive Program, IFLE: Sarah Beaton, Office of Postsecondary Education, U.S. Department of Education, 1990 K Street, NW., Room 6054, Washington, DC 20006-8544. Telephone: (202) 502-7621 or by e-mail: sarah.beaton@ed.gov.

Accessible Format: Individuals with disabilities can obtain this document in an accessible format (e.g., braille, large print, audiotape, or computer diskette) by contacting one of the persons listed under the FOR FURTHER INFORMATION CONTACT section of this notice. Telephone: (202) 245-7363. If you use a telecommunications device for the deaf, call the Federal Relay Service, toll free, at 1-800-877-8339.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: http://www.federalregister.gov. Specifically, through the advanced search feature at this site, you can limit your search to documents published by the Department.

Dated: June 9, 2011.
David A. Bergeron,
Acting Assistant Secretary for Postsecondary Education.

[FR Doc. 2011-14740 Filed 6-13-11; 8:45 am]

BILLING CODE 4000-01-P